ENVIRONMENTAL PROTECTION AGENCY

[FRL-8471-1]

Proposed Settlement Agreement, Clean Air Act Citizen Suit

AGENCY: Environmental Protection Agency (EPA).

ACTION: Notice of Proposed Settlement Agreement; Request for Public Comment.

SUMMARY: In accordance with section 113(g) of the Clean Air Act, as amended (“Act”), 42 U.S.C. 7413(g), notice is hereby given of a proposed settlement agreement, to address three lawsuits filed by the American Iron and Steel Institute, the Specialty Steel Industry of North America and the Steel Manufacturers Association. [American Iron and Steel Institute et. al v. U.S. Environmental Protection Agency, No. 00-1434 consolidated with Nos. 00-1435 and 05-1135 (D.C. Cir.)]. In these cases, petitioners asked the Court to review final rules promulgated by the Environmental Protection Agency (EPA) relating to the New Source Performance Standards for Electric Arc Furnaces, 40 CFR Part 60, Subparts AA and AAa, and the Amendments to Standards of Performance for New Stationary Sources: Monitoring Requirements (PS-1) 65 FR 48914 (August 10, 2000). Under the terms of the proposed settlement agreement, the EPA would execute a letter explaining its position regarding the proper use of continuous opacity monitoring system (COMS) data with respect to the 40 CFR Part 60, Subparts AAa and AAa NSPS for electric arc furnace (EAF) steel facilities.

DATES: Written comments on the proposed settlement agreement must be received by October 22, 2007.

ADDRESSES: Submit your comments, identified by Docket ID number EPA-HQ-OGC-2007-0961, online at http://www.regulations.gov (EPA's preferred method); by e-mail to oei.docket@epa.gov; mailed to EPA Docket Center, Environmental Protection Agency, Mailcode: 2822T, 1200 Pennsylvania Ave., NW., Washington, DC 20460-0001; or by hand delivery or courier to EPA Docket Center, EPA West, Room 3334, 1301 Constitution Ave., NW., Washington, DC, between 8:30 a.m. and 4:30 p.m. Monday through Friday, excluding legal holidays. Comments on a disk or CD-ROM should be formatted in Word or ASCII file, avoiding the use of special characters and any form of encryption, and may be mailed to the mailing address above.

FOR FURTHER INFORMATION CONTACT: Sonja Rodman, Air and Radiation Law Office (2344A), Office of General Counsel, U.S. Environmental Protection Agency, 1200 Pennsylvania Ave., NW., Washington, DC 20460; telephone: (202) 564-4079; fax number (202) 564-5603; e-mail address: rodman.sonja@epa.gov.

SUPPLEMENTARY INFORMATION:

I. Additional Information About the Proposed Settlement

Through this action, EPA is providing notice of a proposed settlement agreement to address three petitions for review of EPA actions filed by American Iron and Steel Institute (AISI), the Specialty Steel Industry of North America (SSINA) and the Steel Manufacturers Association (SMA). Two of the petitions for review were filed in October 2000. On or about October 10, 2000, Petitioners SSINA and SMA petitioned the Court for review of the “Amendments to Standards of Performance for New Stationary Sources: Monitoring Requirements” 65 FR 48914 (August 10, 2000) (“PS-1 Rule”) [Specialty Steel Industry of North America & Steel Manufacturers Association v. U.S. Environmental Protection Agency, No. 00-1434 (D.C. Cir)]. Also on or about October 10, 2000, Petitioners AISI, SSINA and SMA asked the Court to review the New Source Performance Standards Subparts AA and AAa, 40 CFR Part 60, Subparts AA and AAa, which they asserted had been modified by the aforementioned PS-1 Rule [American Iron and Steel Institute, Specialty Steel Industry of North American, Steel Manufacturers Association v. U.S. Environmental Protection Agency, No. 00-1435 (D.C. Cir.)]. The litigation on these two petitions was stayed pending EPA's action on a related administrative petition. Subsequently, on or about April 22, 2005, Petitioners SMA and AISI petitioned the Court for review of a final rule promulgated by EPA entitled “Standards of Performance for Steel Plants: Electric Arc Furnaces Constructed After October 21, 1974, and before August 17, 1983; and Standards of Performance for Steel Plants: Electric Arc Furnaces and Argon-Oxygen Decarburization Vessels Constructed After August 17, 1983.” 70 FR 8523 (February 22, 2005) [Steel Manufacturers Association & American Iron and Steel Institute v. U.S. Environmental Protection Agency, No. 05-1135 (D.C. Cir.)]. These three lawsuits were consolidated into a single action by the United States Court of Appeals for the District of Columbia Circuit. The proposed settlement agreement would resolve all three lawsuits. Under the terms of the proposed settlement agreement, the EPA would execute a letter explaining its position regarding the proper use of continuous opacity monitoring system (COMS) data with respect to the 40 CFR Part 60, Subparts AAa and AAa NSPS for electric arc furnace (EAF) steel facilities. The text of this letter is included in the docket for this rulemaking.

For a period of thirty (30) days following the date of publication of this notice, the Agency will receive written comments relating to the proposed settlement agreement from persons who were not named as parties or intervenors to the litigation in question. EPA or the Department of Justice may withdraw or withhold consent to the proposed settlement agreement if the comments disclose facts or considerations that indicate that such consent is inappropriate, improper, inadequate, or inconsistent with the requirements of the Clean Air Act. Unless EPA or the Department of Justice determines, based on any comment which may be submitted, that consent to the settlement should be withdrawn, the terms of the agreement will be affirmed.

II. Additional Information About Commenting on the Proposed Settlement

A. How Can I Get a Copy of the Settlement?

The official public docket for this action—Docket ID No. EPA-HQ-OGC-2007-0961—contains a copy of the settlement agreement. The official public docket is available for public viewing at the Office of Environmental Information (OEI) Docket in the EPA Docket Center, EPA West, Room 3334, 1301 Constitution Ave., NW., Washington, DC. The EPA Docket Center Public Reading Room is open from 8:30 a.m. to 4:30 p.m., Monday through Friday, excluding legal holidays. The telephone number for the Public Reading Room is (202) 566-1744, and the telephone number for the OEI Docket is (202) 566-1752.

An electronic version of the public docket is available through http://www.regulations.gov. You may use the http://www.regulations.gov to submit or view public comments, access the index listing of the contents of the official public docket, and to access those documents in the public docket that are available electronically. Once in the system, select “search,” then key in the appropriate docket identification number.

It is important to note that EPA's policy is that public comments, whether submitted electronically or in paper, will be made available for public viewing online at http://www.regulations.gov without change, unless the comment contains copyrighted material, CBI, or other information whose disclosure is restricted by statute. Information claimed as CBI and other information whose disclosure is restricted by statute is not included in the official public docket or in the electronic public docket. EPA's policy is that copyrighted material, including copyrighted material contained in a public comment, will not be placed in EPA's electronic public docket but will be available only in printed, paper form in the official public docket. Although not all docket materials may be available electronically, you may still access any of the publicly available docket materials through the EPA Docket Center.

B. How and To Whom Do I Submit Comments?

Direct your comments to the official public docket for this action under Docket ID No. EPA-HQ-OGC-2007-0961. You may submit comments as provided in the ADDRESSES section. Please ensure that your comments are submitted within the specified comment period. Comments received after the close of the comment period will be marked “late.” EPA is not required to consider these late comments.

If you submit an electronic comment, EPA recommends that you include your name, mailing address, and an e-mail address or other contact information in the body of your comment and with any disk or CD-ROM you submit. This ensures that you can be identified as the submitter of the comment and allows EPA to contact you in case EPA cannot read your comment due to technical difficulties or needs further information on the substance of your comment. Any identifying or contact information provided in the body of a comment will be included as part of the comment that is placed in the official public docket, and made available in EPA's electronic public docket. If EPA cannot read your comment due to technical difficulties and cannot contact you for clarification, EPA may not be able to consider your comment.

Use of the http://www.regulations.gov Web site to submit comments to EPA electronically is EPA's preferred method for receiving comments. The electronic public docket system is an “anonymous access” system, which means EPA will not know your identity, e-mail address, or other contact information unless you provide it in the body of your comment. In contrast to EPA's electronic public docket, EPA's electronic mail (e-mail) system is not an “anonymous access” system. If you send an e-mail comment directly to the Docket without going through http://www.regulations.gov, your e-mail address is automatically captured and included as part of the comment that is placed in the official public docket, and made available in EPA's electronic public docket.

Dated: September 14, 2007.
Richard B. Ossias,
Associate General Counsel.

[FR Doc. E7-18577 Filed 9-19-07; 8:45 am]

BILLING CODE 6560-50-P